DEPARTMENT OF COMMERCE

International Trade Administration

[A-588-878]

Glycine From Japan: Notice of Amended Final Results of Antidumping Duty Administrative Review Pursuant to Settlement; 2018-2020

AGENCY: Enforcement and Compliance, International Trade Administration, Department of Commerce.

SUMMARY: The U.S. Department of Commerce (Commerce) is issuing these amended final results pursuant to a settlement agreement with Nagase & Co., Ltd. (Nagase) with respect to the final results of the administrative review of glycine from Japan during the period of review (POR) October 31, 2018, through May 31, 2020.

DATES: Applicable February 11, 2025.

FOR FURTHER INFORMATION CONTACT: John K. Drury, AD/CVD Operations, Office VI, Enforcement and Compliance, International Trade Administration, U.S. Department of Commerce, 1401 Constitution Avenue NW, Washington, DC 20230; telephone: (202) 482-0195.

SUPPLEMENTARY INFORMATION:

Background

On September 29, 2021, Commerce published the final results of the 2018-2020 administrative review of the antidumping duty (AD) order on glycine from Japan.¹ In the Final Results, Commerce calculated a weighted-average dumping margin of 27.71 percent for Nagase for the POR.²

¹ See Glycine from Japan: Final Results of Antidumping Duty Administrative Review; 2018-2020, 86 FR 53946 (September 29, 2021), and accompanying Issues and Decision Memorandum (IDM); and Glycine from Japan: Final Results of Administrative Review; 2018-2020; Correction, 86 FR 57127 (October 14, 2021) (collectively, Final Results).

² Id.

Following the publication of the Final Results, Nagase filed a lawsuit with the U.S. Court of International Trade (CIT) challenging certain aspects of Commerce's Final Results, including: (1) Commerce's inclusion of certain research and development (R&D) expenses unrelated to Nagase's costs of producing glycine; (2) Commerce's inclusion of compensation for payment expenses; and (3) Commerce's refusal to modify the importer-specific AD assessment rate calculated for Nagase's affiliated importer. On April 11, 2023, the CIT sustained, in part, and remanded, in part, Commerce's final results.³ Commerce filed its remand redetermination on August 9, 2023. In its remand redetermination, Commerce modified its treatment of the R&D expenses at issue and made no changes to its calculation methodology of the importer-specific AD assessment rate for Nagase's affiliated importer.⁴ The CIT sustained Commerce's redetermination on July 30, 2024.⁵ On October 2, 2024, Nagase appealed the decision to the U.S. Court of Appeals for the Federal Circuit (Federal Circuit).

³ See Nagase & Co. v. US, 628 F.Supp.3d 1326 (CIT 2023).

⁴ See Final Results of Redetermination Pursuant to Court Remand, Nagase & Co. v. US, Court No. 21-00574, Slip Op. 23-46 (CIT April 11, 2023), dated August 8, 2023, available at https://access.trade.gov/public/FinalRemandRedetermination.aspx.

⁵ See Nagase & Co., Ltd. v. US, 719 F.Supp.3d 1343 (CIT 2024).

On January 30, 2025, the United States and Nagase entered into an agreement to settle this dispute. Pursuant to the terms of settlement, the parties have agreed to a final assessment as discussed below. The Federal Circuit issued its order dismissing the appeal on February 3, 2025.⁶

⁶ See Nagase & Co., Ltd. v. US, CAFC 2025-1008, ECF No. 22, Order of Dismissal (February 3, 2025).

Assessment Rates

Consistent with the settlement agreement and the order of dismissal, issued on February 3, 2025, Commerce will instruct U.S. Customs and Border Protection (CBP) to liquidate all unliquidated entries produced by Yuki Gosei Kogyo Co., Ltd., exported by Nagase, and imported by Nagase America LLC or Nagase America Corporation at the rate at which cash deposits were collected at the time of entry during the 2018-2020 period of review and otherwise to liquidate entries of glycine produced by Yuki Gosei Kogyo Co., Ltd., exported by Yuki Gosei Kogyo Co., Ltd. or Nagase, and imported by an unaffiliated importer (i.e., an importer other than Nagase America LLC or Nagase America Corporation) at the importer-specific assessment rate determined by Commerce in the Final Results.

Pursuant to section 751(a)(2)(C) of the Tariff Act of 1930, as amended (the Act), and 19 CFR 351.212(b)(1), Commerce has determined, and CBP shall assess, antidumping duties on all appropriate entries of subject merchandise in accordance with these revised final results of review.

Cash Deposit Requirements

Because Nagase has a superseding cash deposit rate, i.e., there have been final results published in a subsequent administrative review, we are not revising the cash deposit rate and will not issue revised cash deposit instructions to CBP.

Notification to Interested Parties

We are issuing this determination and publishing these amended final results and notice in accordance with section 516(a)(e) of the Act.

Dated: February 5, 2025.
Abdelali Elouaradia,
Deputy Assistant Secretary for Enforcement and Compliance.

[FR Doc. 2025-02458 Filed 2-10-25; 8:45 am]

BILLING CODE 3510-DS-P